DEPARTMENT OF AGRICULTURE

Natural Resources Conservation Service

Notice of Meeting of the Agricultural Air Quality Task Force

AGENCY: Natural Resources Conservation Service, United States Department of Agriculture.

ACTION: Notice of meeting.

SUMMARY: The Agricultural Air Quality Task Force (AAQTF) will meet to continue discussions on air quality issues relating to agriculture.

DATES: The meeting will convene at 8 a.m. on Wednesday through Friday, September 16-18, 2009, and conclude at 5 p.m. on Wednesday, 5 p.m. on Thursday, and 12 noon on Friday, respectively. A public comment period will be held on Thursday, September 17, 2009. Individuals making oral presentations should register at the meeting site and bring 50 copies of materials they would like distributed.

ADDRESSES: The meeting will be held at the Embassy Suites on the River located at 101 East Locust Street, Des Moines, Iowa 50309; Telephone: (515) 244-1700.

FOR FURTHER INFORMATION CONTACT: Michele Laur, Designated Federal Official, Department of Agriculture, Natural Resources Conservation Service, 1400 Independence Avenue, SW., Room 6165 South Building, Washington, DC 20013; Telephone: (202) 720-1858; or e-mail: michele.laur@wdc.usda.gov.

SUPPLEMENTARY INFORMATION: Notice of this meeting is given under the Federal Advisory Committee Act, 5 U.S.C. App. 2. Additional information concerning AAQTF may be viewed on the World Wide Web at: http://www.airquality.nrcs.usda.gov/AAQTF/.

Agenda

Wednesday, September 16, 2009

A. Welcome to Iowa

B. Discussion of Iowa Air Quality Issues

C. Discussion of Greenhouse Gas

(Time will be reserved on September 17, 2009, to receive public comment. Individual presentations will be limited to 5 minutes.)

Thursday, September 17, 2009

D. Discussion of Engine Emissions and Regulations

E. Discussion of Reactive Nitrogen

F. Public Comment Period

Friday, September 18, 2009

G. Discussion of Subcommittee Recommendations

H. Next Meeting, Time, and Place

*Please note that the timing of events in the agenda is subject to change to accommodate changing schedules of expected speakers.

Procedural

This meeting is open to the public. At the discretion of the Chairman, members of the public may give oral presentations during the meeting. Those wishing to make oral presentations should register in person at the meeting site. Those wishing to distribute written material at the meeting (in conjunction with spoken comments), must bring 50 copies of the material.

Information on Services for Individuals With Disabilities

For information on facilities or services for individuals with disabilities, or to request special assistance at the meeting, please contact Ms. Laur. USDA prohibits discrimination in its programs and activities on the basis of race, color, national origin, gender, religion, age, sexual orientation, or disability. Additionally, discrimination on the basis of political beliefs and marital or family status is also prohibited by statutes enforced by USDA (not all prohibited bases apply to all programs). Persons with disabilities who require alternate means for communication of program information (Braille, large print, audio tape, etc.) should contact the USDA's Target Center at: (202) 720-2000 (voice and TDD). USDA is an equal opportunity provider and employer.

Signed this 18th day of August, 2009, in Washington, DC.
Dave White,
Chief.

[FR Doc. E9-20137 Filed 8-20-09; 8:45 am]

BILLING CODE 3410-16-P